SMALL BUSINESS ADMINISTRATION

[Declaration of Disaster #3355]

State of Ohio and Contiguous Counties in Indiana and Kentucky

Butler and Hamilton Counties and the contiguous counties of Clermont, Montgomery, Preble, and Warren in the State of Ohio; Dearborn, Franklin, and Union Counties in the State of Indiana; and Boone, Campbell, and Kenton Counties in the Commonwealth of Kentucky constitute a disaster area due to damages caused by severe storms and flooding that occurred July 15 through July 18, 2001. Applications for loans for physical damage as a result of this disaster may be filed until the close of business on September 27, 2001 and for economic injury until the close of business on April 29, 2002 at the address listed below or other locally announced locations:

U.S. Small Business Administration, Disaster Area 2 Office, One Baltimore Place, Suite 300, Atlanta, GA 30308.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (INCLUDING NON-PROFIT Organizations) With Credit Available Elsewhere | 7.125
For Economic Injury:
Businesses and Small Agricultural Cooperatives Without Credit Available Elsewhere | 4.000

The numbers assigned to this disaster for physical damage are 335511 for Ohio, 335611 for Indiana, and 335711 for Kentucky. The numbers assigned to this disaster for economic injury are 9M2300 for Ohio, 9M2400 for Indiana, and 9M2500 for Kentucky.

(Catalog of Federal Domestic Assistance Program Nos. 59002 and 59008)
Dated: July 27, 2001.
John Whitmore,
Acting Administrator.

[FR Doc. 01-19361 Filed 8-1-01; 8:45 am]

BILLING CODE 8025-01-P